DEPARTMENT OF TRANSPORTATION

Federal Aviation Administration

14 CFR Part 71

[Docket No. FAA-2009-0326; Airspace Docket 09-ASO-15]

Establishment of Class D and Class E Airspace, Modification of Class E Airspace; Ocala, FL

AGENCY: Federal Aviation Administration (FAA), DOT.

ACTION: Direct final rule, confirmation of effective date; correction.

SUMMARY: This action confirms the effective date of a direct final rule published in the Federal Register June 24, 2009, that establishes Class D airspace, Class E surface airspace as an extension of the Class D airspace, and modifies the existing Class E airspace at Ocala International Airport-Jim Taylor Field, Ocala, FL. This action also makes a minor correction to the existing Class E airport description.

DATES: Effective Date: 0901 UTC, January 26, 2010.

FOR FURTHER INFORMATION CONTACT: Melinda Giddens, Operations Support, Eastern Service Center, Federal Aviation Administration, P.O. Box 20636, Atlanta, Georgia 30320; telephone (404) 305-5610.

SUPPLEMENTARY INFORMATION:

History

The rule establishing Class D and E airspace and modifying Class E airspace for Ocala International Airport—Jim Taylor Field, Ocala, FL, published in the Federal Register June 24, 2009 (74 FR 29939), became effective August 27, 2009. Subsequent to the effective date of the rule, the FAA found that the radius in the Class E5 description for Ocala International Airport—Jim Taylor Field was stated incorrectly. This action corrects that error.

Confirmation of Effective Date

The FAA published this direct final rule with a request for comments establishing and modifying Class D and E airspace, Ocala, FL in the Federal Register on June 24, 2009 (74 FR 29939), Docket No. FAA-2009-0326; Airspace Docket 09-ASO-15. The FAA uses the direct final rulemaking procedure for a non-controversial rule where the FAA believes that there will be no adverse public comment. This direct final rule advised the public that no adverse comments were anticipated, and that unless a written adverse comment, or a written notice of intent to submit such an adverse comment, were received within the comment period, the regulation would become effective on August 27, 2009. No adverse comments were received, and thus this notice confirms that effective date. With the exception of the changes described above, this rule is the same as that published in the Federal Register as a direct final rule.

Technical Amendment

Accordingly, pursuant to the authority delegated to me, the reference to FAA Order 7400.9 for FR Doc. E9-14821, FAA Airspace Docket No. 09-ASO-15, as published in the Federal Register June 24, 2009 (74 FR 29939), is corrected as follows:

On page 29940, column two, line 46, amend the language to read:

§ 71.1 [Amended]

* * * * *

“* * * feet above the surface within a 8.9-mile”

* * * * *

Issued in College Park, Georgia, on January 13, 2010.
Barry A. Knight,
Acting Manager, Operations Support Group, Eastern Service Center, Air Traffic Organization.

[FR Doc. 2010-1379 Filed 1-25-10; 8:45 am]

BILLING CODE 4910-13-P